DEPARTMENT OF DEFENSE

Office of the Secretary

Submission for OMB Review; Comment Request

ACTION: Notice.

The Department of Defense has submitted to OMB for clearance, the following proposal for collection of information under the provisions of the Paperwork Reduction act (44 U.S.C. Chapter 35).

Title, Form Number, and OMB Number: Shipper's Export Declaration (SED) Program; ENG Form 7513; OMB Number 0710-[To be Determined].

Type of Request: New Collection.

Number of Respondents: 13,000.

Responses Per Respondent: 12.

Annual Responses: 164,367.

Average Burden Per Response: 11 minutes.

Annual Burden Hours: 29,737.

Needs and Uses: The data collected are movements of foreign cargo from one foreign country to another foreign country through a U.S. water port. Since goods are neither produced nor consumed in the U.S., they do not count in the balance of trade statistics, but are important from a water transportation standpoint. Vessels moving these goods are federally maintained channels, and these goods should be included in federal water transportation in multi-modal transportation analysis. The Army Corps of Engineers and Maritime Administration (MARAD) use the data from the program to satisfy the missions of their respective agencies. The Corps is responsible for the operation and maintenance of the nation's waterway system to ensure efficient and safe passage of commercial and recreation vessels. The support and management of economically sound navigation projects are dependent upon reliable navigation data mandated by the River and Harbor Appropriations Act of September 22, 1922 (42 Stat. 1043), as amended and codified in 33 U.S.C. 555.

Affected Public: Business or Other For-Profit.

Frequency: On occasion.

Respondent's Obligation: Mandatory.

OMB Desk Officer: Mr. Jim Laity.

Written comments and recommendations on the proposed information collection should be sent to Mr. Laity at the Office of Management and Budget, Desk Officer for the U.S. Army Corps of Engineers, Room 10202, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: October 11, 2000.
Patricia L. Toppings,
Alternate OSD Federal Register Liaison Officer, Department of Defense.

[FR Doc. 00-26543 Filed 10-16-00; 8:45 am]

BILLING CODE 5001-10-M